DEPARTMENT OF TRANSPORTATION

Federal Highway Administration

Notice of Final Federal Agency Actions on Proposed Highways in Colorado

AGENCY: Federal Highway Administration (FHWA), DOT.

ACTION: Notice of limitation on claims for judicial review of actions by FHWA and other Federal agencies.

SUMMARY: This notice announces actions taken by FHWA and other Federal agencies related to the Central 70 project in Denver and Aurora, Colorado, that are final within the meaning of 23 U.S.C. 139(l)(1).

DATES: By this notice, FHWA is advising the public of final agency actions subject to the statute of limitations in 23 U.S.C. 139(l)(1). A claim seeking judicial review of the Federal agency actions on the highway project will be barred unless the claim is filed on or before July 10, 2017. If the Federal law that authorizes judicial review of a claim provides a time period of less than 150 days for filing such claim, then that shorter time period still applies.

FOR FURTHER INFORMATION CONTACT: Chris Horn, Senior Area Engineer, Federal Highway Administration Colorado Division, 12300 W. Dakota Avenue, Lakewood, CO 80228, 720-963-3017, Chris.Horn@dot.gov, normal business hours are 7:00 a.m. to 3:30 p.m. (Mountain time); or Vanessa Henderson, I-70 East Environmental Manager, Colorado Department of Transportation, 2000 South Holly Street, Denver, CO 80222, 303-512-5902, vanessa.henderson@state.co.us, normal business hours are 7:00 a.m. to 4:30 p.m. (Mountain time).

SUPPLEMENTARY INFORMATION: Notice is hereby given that FHWA and other agencies have taken final agency action within in the meaning of 23 U.S.C. 139(l)(1) by approving the Central 70 highway project in the State of Colorado in the Record of Decision issued January 19, 2017. Project Overview: I-70 between I-25 and Chambers Road is one of Colorado's economic backbones. The corridor is home to 1,200 businesses, connecting the region to Denver International Airport and carrying upwards of 200,000 vehicles per day. The purpose of the project is to implement a transportation solution that improves safety, access, and mobility and addresses congestion on I-70 in the project area. The Central 70 project proposes to reconstruct and improve a 10-mile stretch of I-70, which will include adding one new express lane in each direction, removing the interstate from an aging viaduct and placing it below grade, and constructing a four-acre cover over a portion of the lowered section. The actions by the Federal agencies on the project, and the laws under which such actions were taken, are described in the I-70 East from I-25 to Tower Road Final Environmental Impact Statement (FEIS) and Section 4(f) Evaluation signed on December 18, 2015, in the Central 70 Record of Decision (ROD) signed January 19, 2017, and in other key project documents. The FEIS, ROD, and other key documents for the project are available by contacting FHWA or the Colorado Department of Transportation at the addresses provided above. The EIS and ROD documents can be viewed and downloaded from the project Web sites at www.I-70east.com.

This notice applies to all Federal agency decisions, actions, approvals, licenses, and permits on the project as of the issuance date of this notice, including but not limited to those arising under the following laws:

1. General: National Environmental Policy Act [42 U.S.C. 4321-4370h]; Federal-Aid Highway Act [23 U.S.C. 109].

2. Air: Clean Air Act [42 U.S.C. 7401-7671(q)] (transportation conformity).

3. Land: Section 4(f) of the Department of Transportation Act of 1966 [49 U.S.C. 303]; Section 6(f) of the Land and Water Conservation Fund Act of 1965 [16 U.S.C. 4601];

4. Wildlife: Endangered Species Act [16 U.S.C. 1531-1544]; Fish and Wildlife Coordination Act [16 U.S.C. 661-667(e)]; Migratory Bird Treaty Act [16 U.S.C. 703-712].

5. Historic and Cultural Resources: Section 106 of the National Historic Preservation Act of 1966 [54 U.S.C. 306108]); Archaeological Resources Protection Act of 1977 [16 U.S.C. 470aa-470mm]; Archaeological and Historic Preservation Act [16 U.S.C. 469-469c-2]; Native American Grave Protection and Repatriation Act [25 U.S.C. 3001-3013].

6. Social and Economic: Civil Rights Act of 1964 [42 U.S.C. 2000(d)-2000(d)(1)]; American Indian Religious Freedom Act [42 U.S.C. 1996]; the Uniform Relocation Assistance and Real Property Acquisition Policies Act of 1970 [42 U.S.C. 61].

7. Wetlands and Water Resources: Clean Water Act [33 U.S.C. 1251-1387] (Section 404, Section 401, Section 319); Land and Water Conservation Fund Act [16 U.S.C. 460l-4-460l-11]; Safe Drinking Water Act [42 U.S.C. 300f-300j-9.]; Rivers and Harbors Act of 1899 [33 U.S.C. 401-406]; Transportation Equity Act for the 21st Century (TEA-21) [23 U.S.C. 103(b)(6)(m), 133(b)(11)] (wetlands mitigation banking); Flood Disaster Protection Act of 1973 [42 U.S.C. 4001-4129].

8. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Authority: 23 U.S.C. 139(l)(1).

Issued on: January 20, 2017.
John M. Cater,
Division Administrator, Lakewood, Colorado.

[FR Doc. 2017-02660 Filed 2-9-17; 8:45 am]

BILLING CODE 4910-22-P